DEPARTMENT OF AGRICULTURE

U.S. Codex Office

Codex Alimentarius Commission: Meeting of the Codex Committee on Food Hygiene

AGENCY: U.S. Codex Office, USDA.

ACTION: Notice of public meeting and request for comments.

SUMMARY: The U.S. Codex Office is sponsoring a public meeting on February 5, 2024. The objective of the public meeting is to provide information and receive public comments on agenda items and draft U.S. positions to be discussed at the 54th Session of the Codex Committee on Food Hygiene (CCFH) of the Codex Alimentarius Commission (CAC). CCFH54 will be held in Nairobi, Kenya, from March 11-March 15, 2024. The U.S. Manager for Codex Alimentarius and the Under Secretary for Trade and Foreign Agricultural Affairs recognize the importance of providing interested parties the opportunity to obtain background information on the 54th Session of the CCFH and to address items on the agenda.

DATES: The public meeting is scheduled for February 5, 2024, from 2:00-4:00 p.m. EST.

ADDRESSES: The public meeting will take place via Video Teleconference only. Documents related to the 54th Session of the CCFH will be accessible via the internet at the following address: https://www.fao.org/fao-who-codexalimentarius/meetings/detail/en/?meeting=CCFH&session=54.

Dr. Benjamin Warren, U.S. Delegate to the 54th Session of the CCFH, invites interested U.S. parties to submit their comments electronically to the following email address: benjamin.warren@fda.hhs.gov.

Registration: Attendees may register to attend the public meeting here: https://www.zoomgov.com/meeting/register/vJItc-6qqzMuH510Gf6uXw7xtk9Jq-9tGis#/registration. After registering, you will receive a confirmation email containing information about joining the meeting.

For further information about the 54th Session of the CCFH, contact U.S. Delegate, Dr. Benjamin Warren, Senior Science Advisor for Food Safety, Office of Food Safety, Center for Food Safety and Applied Nutrition, U.S. Food and Drug Administration, benjamin.warren@fda.hhs.gov, 1-240-645-7004. For an additional information regarding the public meeting, contact the U.S. Codex Office by email at: uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Food Hygiene (CCFH) are:

(a) to draft basic provisions on food hygiene applicable to all food;

(b) to consider, amend if necessary and endorse provisions on hygiene prepared by Codex commodity committees and contained in Codex commodity standards, and

(c) to consider, amend if necessary, and endorse provisions on hygiene prepared by Codex commodity committees and contained in Codex codes of practice unless, in specific cases, the Commission has decided otherwise, or

(d) to draft provisions on hygiene applicable to specific food items or food groups, whether coming within the terms of reference of a Codex commodity committee or not;

(e) to consider specific hygiene problems assigned to it by the Commission;

(f) to suggest and prioritize areas where there is a need for microbiological risk assessment at the international level and to develop questions to be addressed by the risk assessors; and,

(g) to consider microbiological risk management matters in relation to food hygiene and in relation to the risk assessment of FAO and WHO.

(h) (The term “hygiene” includes, where necessary, microbiological specifications for food and associated methodology.)

The CCFH is hosted by the United States, and the 54th Session of the CCFH will be co-hosted with Kenya.

Issues To Be Discussed at the Public Meeting

The following items from the forthcoming Agenda for the 54th Session of the CCFH will be discussed during the public meeting:

• Matters referred to the Committee by the Codex Alimentarius Commission and/or its subsidiary bodies

• Matters arising from the work of FAO and WHO (including the FAO/WHO Joint Expert Meetings on Microbiological Risk Assessments (JEMRA)

• Information from the World Organization for Animal Health (WOAH)

• Guidelines for the Control of Shiga Toxin-Producing Escherichia coli (STEC) in Raw Beef, Fresh Leafy Vegetables, Raw Milk and Raw Milk Cheeses, and Sprouts

○ Proposed draft Annex II on Fresh Leafy Vegetables at Step 4

○ Proposed draft Annex IV on Sprouts at Step 4

• Guidelines for the Safe Use and Reuse of Water in Food Production (Annex II on Fishery Products at Step 4 and Annex III on Dairy Products at Step 4

• Proposed draft revision on the Guidelines on the Application of General Principles of Food Hygiene to the Control of Pathogenic Vibrio Species in Seafood (CXG 73-2010) at Step 4

• Proposed draft Guidelines for Food Hygiene Control Measures in Traditional Markets for Food at Step 4

• Alignment of Codex texts developed by CCFH with the revised General Principles of Food Hygiene (CXC 1-1969)

• Revision of the Guidelines on the Application of General Principles of Food Hygiene to the Control of Viruses in Food (CXG 79-2012)

• Discussion paper on the Revision of Guidelines for the Control of Campylobacter and Salmonella in Chicken Meat (CXG 78-2011)

• Discussion paper on the revision of Guidelines on the Application of General Principles of Food Hygiene to the Control of Listeria monocytogenes in Foods (CXG 61-2007)

• Other business and future work

○ New work/Forward workplan (Proposals in reply to CL 2023/30-FH)

Public Meeting

At the February 5, 2024, public meeting, draft U.S. positions on the agenda items will be described and discussed, and attendees will have the opportunity to pose questions and offer comments. Written comments may be offered at the meeting or sent to Dr. Benjamin Warren, U.S. Delegate to the 54th Session of the CCFH, at benjamin.warren@fda.hhs.gov. Written comments should state that they relate to activities of the 54th Session of the CCFH.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on December 21, 2023.
Julie Chao,
Deputy U.S. Manager for Codex Alimentarius.

[FR Doc. 2023-28533 Filed 12-26-23; 8:45 am]

BILLING CODE P